DEPARTMENT OF ENERGY

Federal Energy Regulatory Commission

[Docket No. PF12-7-000; Docket No. PF12-17-000]

Jordan Cove Energy Project LP; Pacific Connector Gas Pipeline LP; Notice of Additional Public Scoping Meetings for the Jordan Cove Liquefaction and Pacific Connector Pipeline Projects

On October 9, 10, and 11, 2012, the Federal Energy Regulatory Commission (FERC or Commission) Office of Energy Projects staff, in cooperation with representatives of the U.S. Department of Agriculture Forest Service (Forest Service) and the U.S. Department of the Interior Bureau of Land Management (BLM), will hold three additional public scoping meetings to take comments on Jordan Cove Energy Project LP's (Jordan Cove) proposed liquefaction project in Coos County, Oregon, in Docket No. PF12-7-000, and Pacific Connector Gas Pipeline LP's (Pacific Connector) proposed pipeline project crossing portions of Klamath, Jackson, Douglas, and Coos Counties, Oregon, in Docket No. PF12-17-000. These meetings are part of our ¹ pre-filing process prior to the production of an environmental impact statement (EIS) for these projects.

¹ The pronouns “we,” “us,” and “our” refer to the staff of the FERC, BLM, and Forest Service working on these projects.

On August 2, 2012, the FERC issued a Notice of Intent to Prepare an Environmental Impact Statement for the Planned Jordan Cove Liquefaction and Pacific Connector Pipeline Projects, Requests for Comments on Environmental Issues, and Notice of Public Scoping Meetings (NOI). We previously held four public scoping meetings during the week of August 27-30, 2012 in Coos Bay, Roseburg, Klamath Falls, and Medford, Oregon. The BLM and Forest Service have issued their own separate supplemental NOI in the Federal Register on September 21, 2012, also announcing the three new public scoping meetings. The NOIs open the public scoping process, soliciting comments on the potential environmental impacts of the proposed projects. You may submit comments in written form or verbally at the public scoping meetings.² The FERC's NOI provided instructions on how to properly file written comments. Your comments will allow us to focus attention on environmental issues important to the public during preparation of the EIS. The scoping period will end on October 29, 2012.

² Verbal comments at the public scoping meetings will be transcribed by a court reporter and placed into the public record for these proceedings.

The three new public scoping meetings are scheduled as follows:

Date and time | Location
Tuesday, October 9, 2012, 6:30 p.m. | Mill Casino-Hotel, 3201 Tremont Ave., North Bend, OR 97459.
Wednesday, October 10, 2012, 6:30 p.m. | Seven Feathers Casino Resort, 146 Chief Miwaleta Ln., Canyonville, OR 97417.
Thursday, October 11, 2012, 6:30 p.m. | Malin Community Park Hall, 2307 Front St., Malin, OR 97632.

This notice is being sent to the Commission's current environmental mailing list for these projects Additional information about the projects is available from the Commission's Office of External Affairs, at (866) 208-FERC, or on the FERC internet Web site (www.ferc.gov). The FERC's eLibrary function provides access to the texts of formal documents issued by the Commission, such as orders, notices, and rulemakings. On the FERC Web site, go to Documents & Filings, and click on the eLibrary link. Then click on “General Search,” and enter the docket number, excluding the last three digits in the Docket Number field (i.e., PF12-7 or PF12-17). Be sure you have selected an appropriate date range. For assistance, please contact FERC Online Support at FercOnlineSupport@ferc.gov or toll free at (866) 208-3676, or for TTY, contact (202) 502-8659.

All public meetings will be posted on the Commission's calendar located at www.ferc.gov/EventCalendar/EventsList.aspx along with other related information. Please submit your comments prior to the end of scoping date of October 29, 2012.

Dated: September 21, 2012.
Kimberly D. Bose,
Secretary.

[FR Doc. 2012-23808 Filed 9-26-12; 8:45 am]

BILLING CODE 6717-01-P